DEPARTMENT OF TRANSPORTATION

Federal Aviation Administration

Advisory Circular (AC) 23-13A, Fatigue, Fail-Safe, and Damage Tolerance Evaluation of Metallic Structure for Normal, Utility, Acrobatic, and Commuter Category Airplanes

AGENCY: Federal Aviation Administration, DOT.

ACTION: Notice of issuance of advisory circular.

SUMMARY: This notice announces the issuance of Advisory Circular (AC) 23-13A, Fatigue, Fail-Safe, and Damage Tolerance Evaluation of Metallic Structure for Normal, Utility, Acrobatic, and Commuter Category Airplanes. The AC sets forth an acceptable means, but not the only means, to show compliance with applicable fatigue, fail-safe, and damage tolerance evaluations required for metallic structure in normal, utility, acrobatic, and commuter category airplanes. The AC provides information on approval of continued operational flight with known cracks in the structure of small airplanes, regardless of certification basis. The AC also clarifies the use of AC 20-128A in the evaluation of rotorburst structural hazards in small airplanes. Finally, the AC consolidates existing policy documents and certain technical reports into one document.

DATES: Advisory Circular 23-13A was issued by the Manager of the Small Airplane Directorate on September 29, 2005.

How to Obtain Copies: A paper copy of AC 23-13A may be obtained by writing to the U.S. Department of Transportation, Subsequent Distribution Office, DOT Warehouse, M-30, Ardmore East Business Center, 3341Q 75th Avenue, Landover, MD 20785, telephone 301-322-5377, or by faxing your request to the warehouse at 301-386-5394.

The AC will also be available on the Internet at: http://www.airweb.faa.gov/ac.

Issued in Kansas City, Missouri, on January 10, 2006.
John Colomy,
Acting Manager, Small Airplane Directorate Aircraft Certification Service.

[FR Doc. E6-450 Filed 1-17-06; 8:45 am]

BILLING CODE 4910-13-P